ENVIRONMENTAL PROTECTION AGENCY

40 CFR Parts 52 and 81

[EPA-R05-OAR-2016-0593; FRL-9971-77—Region 5]

Air Plan Approval; Illinois; Redesignation of the Chicago and Granite City Areas to Attainment of the 2008 Lead Standard; Withdrawal of Direct Final Rule

AGENCY: Environmental Protection Agency (EPA).

ACTION: Withdrawal of direct final rule.

SUMMARY: Due to the receipt of an adverse comment, the Environmental Protection Agency (EPA) is withdrawing the October 18, 2017, direct final rule approving the Illinois Environmental Protection Agency's request to redesignate the Chicago and Granite City nonattainment areas to attainment for the 2008 national ambient air quality standards for lead, the state's maintenance plans for the areas, and rules applying emission limits and other control requirements to lead sources in the areas.

DATES: The direct final rule published at 82 FR 48448 on October 18, 2017, is withdrawn effective December 8, 2017.

FOR FURTHER INFORMATION CONTACT: Eric Svingen, Environmental Engineer, Attainment Planning and Maintenance Section, Air Programs Branch (AR-18J), Environmental Protection Agency, Region 5, 77 West Jackson Boulevard, Chicago, Illinois 60604, (312) 353-4489, svingen.eric@epa.gov.

SUPPLEMENTARY INFORMATION: In the direct final rule, EPA stated that if adverse comments were submitted by November 17, 2017, the rule would be withdrawn and not take effect. EPA received an adverse comment prior to the close of the comment period and, therefore, is withdrawing the direct final rule. EPA will address the comment in a subsequent final action based upon the proposed action also published on October 18, 2017 (82 FR 48475). EPA will not institute a second comment period on this action.

List of Subjects

40 CFR Part 52

Environmental protection, Air pollution control, Incorporation by reference, Intergovernmental relations, Lead, Reporting and recordkeeping requirements.

40 CFR Part 81

Environmental protection, Air pollution control, National parks, Wilderness areas.

Authority: 42 U.S.C. 7401 et seq.

Dated: November 27, 2017.
Robert A. Kaplan,
Acting Regional Administrator, Region 5.

Accordingly, the amendments to 40 CFR 52.720 and 81.314 published in the Federal Register on October 18, 2017 (82 FR 48448), are withdrawn effective December 8, 2017.

[FR Doc. 2017-26417 Filed 12-7-17; 8:45 am]

BILLING CODE 6560-50-P